INTERNATIONAL TRADE COMMISSION

[USITC SE-19-028]

Sunshine Act Meetings

AGENCY HOLDING THE MEETING: United States International Trade Commission.

TIME AND DATE: July 30, 2019 at 9:30 a.m.

PLACE: Room 101, 500 E Street SW, Washington, DC 20436. Telephone: (202) 205-2000.

STATUS: Open to the public.

MATTERS TO BE CONSIDERED:

1. Agendas for future meetings: None.

2. Minutes.

3. Ratification List.

4. Vote on Inv. Nos. 701-TA-405-406 and 408 and 731-TA-899-901 and 906-908 (Third Review) (Hot-Rolled Carbon Steel Flat Products from China, India, Indonesia, Taiwan, Thailand, and Ukraine). The Commission is currently scheduled to complete and file its determinations and views of the Commission by August 13, 2019.

5. Outstanding action jackets: None.

The Commission is holding the meeting under the Government in the Sunshine Act, 5 U.S.C. 552(b). In accordance with Commission policy, subject matter listed above, not disposed of at the scheduled meeting, may be carried over to the agenda of the following meeting.

By order of the Commission.
Issued: July 22, 2019.
William Bishop,
Supervisory Hearings and Information Officer.

[FR Doc. 2019-15881 Filed 7-23-19; 11:15 am]

BILLING CODE 7020-02-P